NUCLEAR REGULATORY COMMISSION

Request for a License To Export Radioactive Waste

Pursuant to 10 CFR 110.70 (b) “Public Notice of Receipt of an Application,” please take notice that the Nuclear Regulatory Commission (NRC) has received the following request for an export license. Copies of the request are available electronically through ADAMS and can be accessed through the Public Electronic Reading Room (PERR) link http://www.nrc.gov/reading-rm.html at the NRC Homepage.

A request for a hearing or petition for leave to intervene may be filed within thirty days after publication of this notice in the Federal Register. Any request for hearing or petition for leave to intervene shall be served by the requestor or petitioner upon the applicant, the Office of the General Counsel, U.S. Nuclear Regulatory Commission, Washington, DC 20555; the Secretary, U.S. Nuclear Regulatory Commission, Washington, DC 20555; and the Executive Secretary, U.S. Department of State, Washington, DC 20520.

A request for a hearing or petition for leave to intervene may be filed with the NRC electronically in accordance with NRC's E-Filing rule promulgated in August 2007, 72 FR 49139 (Aug. 28, 2007). Information about filing electronically is available on timely electronic filing, at least five days prior to the filing deadline, the petitioner/requestor should contact the Office of the Secretary by e-mail at HEARINGDOCKET@NRC.GOV, or by calling (301) 415-1677, to request a digital ID certificate and allow for the creation of an electronic docket.

In addition to a request for hearing or petition for leave to intervene, written comments, in accordance with 10 CFR 110.81, should be submitted within thirty (30) days after publication of this notice in the Federal Register to Office of the Secretary, U.S. Nuclear Regulatory Commission, Washington, DC 20555, Attention: Rulemaking and Adjudications.

The information concerning this license application follows.

NRC Export License Application —Description of Material
Name of applicant; date of application; date received; application No.; docket No. | Material type | Total quantity | End use | Recipient country
Duratek Services, Inc. (a subsidiary of EnergySolutions); July 2, 2008; July 8, 2008; XW014; 11005756 | Class A radioactive waste in the form of contaminated dry active materials generated during refurbishment of a nuclear reactor pump and pump impeller from Ontario Power Generation's Pickering Station | Approximately 170 pounds (24 cubic feet) of dry active materials | Storage or disposal by the original generator, as required or authorized by their regulator | Canada.

Dated this 24th day of July 2008 at Rockville, Maryland.
For the Nuclear Regulatory Commission.
Scott W. Moore,
Deputy Director, Office of International Programs.

[FR Doc. E8-17900 Filed 8-4-08; 8:45 am]

BILLING CODE 7590-01-P